DEPARTMENT OF ENERGY

[Docket No. 2007-OE-01, Draft Mid-Atlantic Area National Corridor; Docket No. 2007-OE-02, Draft Southwest Area National Corridor]

Office of Electricity Delivery and Energy Reliability; Draft National Interest Electric Transmission Corridor Designations

AGENCY: Department of Energy.

ACTION: Notice of errata and meetings.

SUMMARY: The Department of Energy (DOE) published notice of two draft National Interest Electric Transmission Corridors (National Corridors) under section 216 of the Federal Power Act in 72 FR 25838 on May 7, 2007. With regard to the draft Mid-Atlantic Area National Corridor (Docket No. 2007-OE-01), DOE is correcting an error in the text of the May 7, 2007 notice. There are six counties that were correctly included in the map of the draft Mid-Atlantic Area National Corridor, displayed in Figure VIII-21 at 72 FR 25908, but that were inadvertently omitted from the narrative description of the draft Corridor at 72 FR 25909. The six counties that should have been included in the list at 72 FR 25908 are: Monroe County, OH; Carbon County, PA; Cumberland County, PA; Kanawha County, WV; Mason County, WV; and Putnam County, WV. Further, DOE will be holding four additional public meetings on the draft National Corridors.

DATES: DOE has scheduled two new public meetings on Docket No. 2007-OE-01 (the draft Mid-Atlantic Area National Corridor) for the following dates:

June 12, 2007, 1 p.m. to 7 p.m., Rochester, NY; and

June 13, 2007, 1 p.m. to 7 p.m., Pittsburgh, PA.

DOE has scheduled two new public meetings on Docket No. 2007-OE-02 (the draft Southwest Area National Corridor) for the following dates:

June 20, 2007, 1 p.m. to 7 p.m., Las Vegas, NV; and

June 21, 2007, 1 p.m. to 7 p.m., Phoenix, AZ.

ADDRESSES: The locations for the public meetings are:

Rochester, NY—RIT Inn & Conference Center, 5257 West Henrietta Road, West Henrietta, NY 14586;

Pittsburgh, PA—National Energy Technology Laboratory, Building 922, Conference Center A, B, & C, 626 Cochrans Mill Road, Pittsburgh, PA 15236 (All attendees will be required to present valid government-issued photo identification, such as a driver's license, passport, or military ID, upon entrance to the National Energy Technology Laboratory campus);

Las Vegas, NV—Atomic Testing Museum, 755 East Flamingo Road, Las Vegas, NV 89119; and

Phoenix, AZ—Crowne Plaza Hotel Phoenix Airport, 4300 East Washington, Phoenix, AZ 85034.

If you are interested in speaking at one of these meetings, please sign up at http://www.energetics.com/NIETCpublicmeetings or call 410-953-6250.

FOR FURTHER INFORMATION CONTACT: For technical information, David Meyer, DOE Office of Electricity Delivery and Energy Reliability, (202) 586-1411, david.meyer@hq.doe.gov. For legal information, Mary Morton, DOE Office of the General Counsel, (202) 586-1221, mary.morton@hq.doe.gov.

Issued in Washington, DC, on June 1, 2007.
Kevin M. Kolevar,
Director, Office of Electricity Delivery and Energy Reliability.

[FR Doc. E7-11017 Filed 6-6-07; 8:45 am]

BILLING CODE 6450-01-P